DEPARTMENT OF THE INTERIOR

Bureau of Land Management

[LLIDT000000.L11200000.DD0000.241A.00]

Notice of Public Meetings, Twin Falls District Resource Advisory Council, Idaho

AGENCY: Bureau of Land Management, Interior.

ACTION: Notice of public meetings.

SUMMARY: In accordance with the Federal Land Policy and Management Act (FLPMA), the Federal Advisory Committee Act of 1972 (FACA), the U.S. Department of the Interior, Bureau of Land Management (BLM) Twin Falls District Resource Advisory Council (RAC) and subcommittee for the proposed Monument and Cassia Land Use Plan amendments will meet as indicated below.

DATES: On March 28, 2012, the Twin Falls District RAC subcommittee members for the proposed Monument and Cassia Land Use Plan amendments will meet at the Twin Falls District BLM office, 2536 Kimberly Road, Twin Falls, Idaho. The meeting will begin at 6 p.m. and end no later than 8:30 p.m. The public comment period for the RAC subcommittee meeting will take place 6:15 p.m. to 6:45 p.m. On April 25, the Twin Falls District Resource Advisory Council will tour the Cedar Fields area, and meet at the American Falls Library Community Room, 308 Roosevelt St., American Falls at 1 p.m. The public comment for the RAC meeting will take place 1:15 p.m. to 1:45 p.m.

FOR FURTHER INFORMATION CONTACT: Heather Tiel-Nelson, Twin Falls District, Idaho, 2536 Kimberly Road, Twin Falls, Idaho, 83301, (208) 736-2352.

SUPPLEMENTARY INFORMATION: The 15-member RAC advises the Secretary of the Interior, through the Bureau of Land Management, on a variety of planning and management issues associated with public land management in Idaho. During the March 28th meeting, RAC subcommittee members will also discuss rock climbing, camping, staging, trail-building and other recreational issues at Cedar Fields and Castle Rocks. During the April 25th meeting, RAC members will tour the Cedar Fields area in the morning, and meet in the afternoon to discuss a possible recommendation regarding rock climbing, camping, staging, trail-building and other recreational issues at Cedar Fields and Castle Rocks.

Additional topics may be added and will be included in local media announcements. More information is available at www.blm.gov/id/st/en/res/resource_advisory.3.html RAC meetings are open to the public. For further information about the meeting, please contact Heather Tiel-Nelson, Public Affairs Specialist for the Twin Falls District, BLM at (208) 736-2352.

Dated: March 5, 2012.
Mary DeAguero,
District Manager, Acting.

[FR Doc. 2012-6252 Filed 3-14-12; 8:45 am]

BILLING CODE 4310-GG-P